DEPARTMENT OF HEALTH AND HUMAN SERVICES

Health Resources and Services Administration

[OMB No. 0915-0285—Revision]

Agency Information Collection Activities: Submission to OMB for Review and Approval; Public Comment Request; Health Center Program

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 2, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call 301-594-4394.

SUPPLEMENTARY INFORMATION:

Information Collection Request Title: Health Center Program Forms OMB No. 0915-0285—Revision.

Abstract: The Health Center Program, administered by HRSA, is authorized under Section 330 of the Public Health Service Act (42 U.S.C. 254b). Health centers are community-based and patient-directed organizations that deliver affordable, accessible, quality, and cost-effective primary health care services to patients regardless of their ability to pay. Nearly 1,400 health centers operate approximately 14,000 service delivery sites that provide primary health care to more than 30 million people in every U.S. state, the District of Columbia, Puerto Rico, the U.S. Virgin Islands, and the Pacific Basin. HRSA uses forms for new and existing health centers and other entities to apply for various grant and non-grant opportunities, renew grant and non-grant designations, report progress, and change their scopes of project.

A 60-day notice published in the Federal Register on October 17, 2022, vol. 87, No. 199; pp. 62861. There were no public comments.

Need and Proposed Use of the Information: Health Center Program-specific forms are necessary for award processes and oversight of the Health Center Program and other relevant programs. These forms provide HRSA staff and objective review committee panels with information essential for application evaluation, funding recommendation and approval, designation, and monitoring. These forms also provide HRSA staff with information essential for evaluating compliance with Health Center Program statutory and regulatory requirements.

HRSA intends to make several changes to its forms:

• HRSA will modify the following forms to streamline and clarify data currently being collected: 1A, 1B, 1C, 2, 4, 6A, 8, Checklist for Adding a New Service, Checklist for Adding a New Service Delivery Site, Checklist for Adding a New Target Population, Checklist for Deleting Existing Service, Checklist for Deleting Existing Service Delivery Site, Expanded Services Patient Impact, Health Center Controlled Networks Progress Report, Operational Plan, Project Narrative Update, Project Overview Form, Project Work Plan, and the Summary Page—Service Area Competition.

• HRSA will add forms necessary for funding applications and program monitoring: Applicant Qualification Criteria Form, Financial Performance Indicators, Funding Request Summary Form, Fiscal Year (FY) 2022 Accelerating Cancer Screening Progress Report, Native Hawaiian Health Care Improvement Act (NHHCIA) Non-Competing Continuation (NCC) Clinical and Financial Performance Measures, NHHCIA NCC Income Analysis Form, NHHCIA NCC Project Work Plan Progress Report, NHHCIA NCC Project Work Plan Update, Patient Impact Form, Project Cover Page, Progress Report—Non-Capital Investments, School-Based Health Center Location Form, Quality Improvement Fund (QIF) Evaluative Measures Report, QIF Project Plan Form and QIF Progress Report.

• HRSA will remove forms to further streamline information collected by HRSA and reduce burden: Clinical Performance Measures, Diabetes Action Plan, Expanded Services, Financial Performance Measures, FY 2018 Expanding Access to Quality Substance Use Disorder—Mental Health Integrated Behavioral Health Services Progress Reporting, Health Center Program Supplemental Information, HRSA Electronic Handbooks Action Plan and the Program Specific Form Instructions.

Likely Respondents: Health Center Program award recipients (those funded under section 330 of the Public Health Service Act) and Health Center Program look-alikes, state and national technical assistance organizations, and other organizations seeking funding.

Burden Statement: Burden in this context means the time expended by persons to generate, maintain, retain, disclose, or provide the information requested. This includes the time needed to review instructions; to develop, acquire, install, and use technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Applicant Qualification Criteria Form | 500 | 1 | 500 | 1.00 | 500
Capital Semi Annual Progress Report | 1,317 | 2 | 2,634 | 1.00 | 2,634
Checklist for Adding a New Service | 450 | 1 | 450 | 2.00 | 900
Checklist for Adding a New Service Delivery Site | 1,480 | 1 | 1,480 | 2.00 | 2,960
Checklist for Adding a New Target Population | 100 | 1 | 100 | 2.00 | 200
Checklist for Deleting Existing Service | 500 | 1 | 500 | 2.00 | 1,000
Checklist for Deleting Existing Service Delivery Site | 750 | 1 | 750 | 2.00 | 1,500
Environmental Information and Documentation | 750 | 1 | 750 | .50 | 375
Equipment List | 1,375 | 1 | 1,375 | .50 | 688
Expanded Services Patient Impact | 996 | 1 | 996 | 1.00 | 996
Federal Object Class Categories Form | 735 | 1 | 735 | .25 | 184
Financial Performance Indicators | 20 | 1 | 20 | 1.00 | 20
Form 12: Organization Contacts | 1,058 | 1 | 1,058 | 1.00 | 1,058
Form 1A: General Information Worksheet | 1,058 | 1 | 1,058 | 1.00 | 1,058
Form 1B: Funding Request Summary | 1,000 | 1 | 1,000 | .75 | 750
Form 1C: Documents on File | 1,058 | 1 | 1,058 | .50 | 529
Form 2: Staffing Profile | 1,058 | 1 | 1,058 | 1.00 | 1,058
Form 3: Income Analysis | 1,058 | 1 | 1,058 | 1.00 | 1,058
Form 3A: Look-Alike Budget Information | 50 | 1 | 50 | 1.00 | 50
Form 4: Community Characteristics | 1,058 | 1 | 1,058 | 1.00 | 1,058
Form 5A: Services Provided | 1,058 | 1 | 1,058 | 1.00 | 1,058
Form 5B: Service Sites | 1,058 | 1 | 1,058 | 1.00 | 1,058
Form 5C: Other Activities/Locations | 1,058 | 1 | 1,058 | 1.00 | 1,058
Form 6A: Current Board Member Characteristics | 1,058 | 1 | 1,058 | 1.00 | 1,058
Form 6B: Request for Waiver of Board Member Requirements | 1,058 | 1 | 1,058 | 1.00 | 1,058
Form 8: Health Center Agreements | 1,058 | 1 | 1,058 | 1.00 | 1,058
Funding Request Summary Form (School-Based Health Center) | 500 | 1 | 500 | .50 | 250
Funding Sources | 735 | 1 | 735 | .50 | 368
FY 2020 Ending the HIV Epidemic Primary Care HIV Prevention PCHP Progress Reporting | 182 | 1 | 182 | 1.00 | 182
FY 2022 Accelerating Cancer Screening Progress Report | 10 | 1 | 10 | 1.50 | 15
Health Center Controlled Networks Progress Report | 90 | 1 | 90 | 1.00 | 90
Health Center Program Progress Report | 735 | 1 | 735 | 1.00 | 735
HRSA Loan Guarantee Program Application | 20 | 1 | 20 | 1.00 | 20
NHHCIA NCC Clinical Performance Measures | 6 | 1 | 6 | 1.50 | 9
NHHCIA NCC Financial Performance Measures | 6 | 1 | 6 | .50 | 3
NHHCIA NCC Income Analysis Form | 6 | 1 | 6 | .15 | 1
NHHCIA NCC Project Work Plan Progress Report | 6 | 1 | 6 | .15 | 1
NHHCIA NCC Project Work Plan Update | 6 | 1 | 6 | .15 | 1
Operational Plan | 500 | 1 | 500 | 3.00 | 1,500
Other Requirements for Sites | 600 | 1 | 600 | .50 | 300
Participating Health Centers List | 90 | 1 | 90 | 1.00 | 90
Patient Impact Form | 500 | 1 | 500 | 1.00 | 500
Patient Target and Calculations | 1,058 | 1 | 1,058 | 1.00 | 1,058
Progress Report—Non-Capital Investments | 1,400 | 4 | 5,600 | 1.50 | 8,400
Project Cover Page | 735 | 1 | 735 | 1.00 | 735
Project Narrative Update | 883 | 1 | 883 | 4.00 | 3,532
Project Overview Form | 500 | 1 | 500 | 1.00 | 500
Project Plan | 182 | 3 | 546 | 1.50 | 819
Project Qualification Criteria | 735 | 1 | 735 | 1.00 | 735
Project Work Plan | 135 | 1 | 135 | 4.00 | 540
Proposal Cover Page | 735 | 1 | 735 | 1.00 | 735
QIF Evaluative Measures Report | 12 | 1 | 12 | 1.50 | 18
QIF Progress Report | 12 | 1 | 12 | 1.50 | 18
QIF Project Plan Form | 100 | 1 | 100 | 1.00 | 100
Summary Page (New Access Point) | 500 | 1 | 500 | 1.00 | 500
Summary Page (Service Area Competition) | 450 | 1 | 450 | .50 | 225
| 32,798 |  | 39,279 |  | 46,529

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-01918 Filed 1-30-23; 8:45 am]

BILLING CODE 4165-15-P